DEPARTMENT OF HEALTH AND HUMAN SERVICES

Food and Drug Administration

Advisory Committees; Filing of Closed Meeting Reports

AGENCY: Food and Drug Administration, HHS.

ACTION: Notice.

SUMMARY: The Food and Drug Administration (FDA) is announcing that, as required by the Federal Advisory Committee Act, the agency has filed with the Library of Congress the annual reports of those FDA advisory committees that held closed meetings during fiscal year 2007.

ADDRESSES: Copies are available from the Dockets Management Branch (HFA-305), Food and Drug Administration, 5630 Fishers Lane, rm. 1061, Rockville, MD 20852, 301-827-6860.

FOR FURTHER INFORMATION CONTACT: Theresa L. Green, Committee Management Officer, Advisory Committee and Oversight Management Staff (HF-4), Food and Drug Administration, 5600 Fishers Lane, Rockville, MD 20857, 301-827-1220.

SUPPLEMENTARY INFORMATION: Under section 10(d) of the Federal Advisory Committee Act (5 U.S.C. app.1) and 21 CFR 14.60(d), FDA has filed with the Library of Congress the annual reports for the following FDA advisory committees that held closed meetings during the period October 1, 2006 through September 30, 2007:

Center for Biologics Evaluation and Research:

Cellular, Tissue and Gene Therapies Advisory Committee,

Vaccines and Related Biological Products Advisory Committee,

Center for Drugs Evaluation and Research:

Antiviral Drugs Advisory Committee

Center for Devices and Radiological Health:

Medical Devices Advisory Committee (consisting of reports for Dental Products Panel; Circulatory Devices Panel)

Annual Reports are available for public inspections between 9 a.m. and 4 p.m., Monday through Friday.

(1) The Library of Congress, Madison Bldg., Newspaper and Current Periodical Reading Room, 101 Independence Ave. SE, rm. 133, Washington, DC; and (2) The Dockets Management Branch (HFA-305), Food and Drug Administration, 5630 Fishers Lane, rm. 1061, Rockville, MD 20852.

Dated: December 4, 2007.
Randall W. Lutter,
Deputy Commissioner for Policy.

[FR Doc. E7-23986 Filed 12-10-07; 8:45 am]

BILLING CODE 4160-01-S